FEDERAL COMMUNICATIONS COMMISSION

Sunshine Act Meeting FCC To Hold Open Commission Meeting Wednesday, December 12, 2012

December 5, 2012.

The Federal Communications Commission will hold an Open Meeting on the subjects listed below on Wednesday, December 12, 2012. The meeting is scheduled to commence at 1:00 p.m. in Room TW-C305, at 445 12th Street SW., Washington, DC. The Commission is waiving the sunshine period prohibition contained in Section 1.1203 of the Commission's rules, 47 CFR 1.1203, until 5:00 p.m. on Thursday, December 6, 2012. Thus, presentations with respect to the items listed below will be permitted until that time.

Item No. | Bureau | Subject
1 | Wireless Telecommunications, International and Office of Engineering & Technology | Title: Amendment of the Commission's Rules with Regard to Commercial Operations in the 3550-3650 MHz Band.
|  | Summary: The Commission will consider a Notice of Proposed Rulemaking to broaden its initiatives in unleashing broadband spectrum, promoting technological innovation, and encouraging investment via the creation of a shared access broadband service in the 3550-3650 MHz band for small cell use.
2 | Public Safety & Homeland Security | Title: Facilitating the Development of Text-to-911 and Other Next Generation 911 Applications (PS Docket No. 11-153) and Framework for Next Generation 911 Deployment (PS Docket No. 10-255).
|  | Summary: The Commission will consider an item on developing the capability for Americans to contact 911 emergency services via text messaging, and providing automatic consumer notification where text to 911 is not supported.
3 | Wireline Competition | Title: Rural Health Care Support Mechanism (WC Docket No. 02-60).
|  | Summary: The Commission will consider a Report and Order on reforming the FCC's universal service support programs for healthcare that would expand healthcare providers' access to broadband, especially in rural areas, while increasing overall efficiency and accountability in the programs.
4 | Wireless Telecommunications | Title: Service Rules for Advanced Wireless Services in the 2000-2020 MHz and 2180-2200 MHz Bands (WT Docket No. 12-70); Fixed and Mobile Services in the Mobile Satellite Service Bands at 1525-1559 MHz and 1626.5-1660.5 MHz, 1610-1626.5 MHz and 2483.5-2500 MHz, and 2000-2020 MHz and 2180-2200 MHz (ET Docket No. 10-142); and Service Rules for Advanced Wireless Services in the 1915-1920 MHz, 1995-2000 MHz, 2020-2025 MHz and 2175-2180 MHz Bands (WT Docket No. 04-356).
|  | Summary: The Commission will consider a Report and Order and Order of Proposed Modification to increase the Nation's supply of spectrum for mobile broadband by adopting service rules for 40 megahertz of spectrum in the 2 GHz band (2000-2020 MHz and 2180-2200 MHz).
5 | Wireless Telecommunications | Title: Service Rules for the Advanced Wireless Services H Block—Implementing Section 6401 of the Middle Class Tax Relief and Job Creation Act of 2012 Related to the 1915-1920 MHz and 1995-2000 MHz bands.
|  | Summary: The Commission will consider a Notice of Proposed Rulemaking that would implement the Congressional directive in the Middle Class Tax Relief and Job Creation Act of 2012 to grant new initial licenses for the 1915-1920 MHz and the 1995-2000 MHz bands through a system of competitive bidding.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary.

[FR Doc. 2012-29874 Filed 12-6-12; 4:15 pm]

BILLING CODE 6712-01-P